DEPARTMENT OF HOUSING AND URBAN DEVELOPMENT

[Docket No. FR-4736-N-03]

Notice of Proposed Information Collection for Public Comment—Public Housing Financial Management Template

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: July 8, 2002.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20110-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Financial Management Template.

OMB Control Number: 2577- (Formerly 2535-0107).

Description of the need for the information and proposed use: The Uniform Financial Reporting Standards (UFRS) for HUD Housing Programs requires Public Housing Agencies (PHAs) to submit financial data electronically, using Generally Accepted Accounting Principles (GAAP), in a prescribed format. Electronic submission of this data requires the use of a template. The Public Housing Financial Management template includes updates that increase the efficiency of data collection and reduces the burden hours for the respondents. HUD will continue to use the financial information it collects from PHAs to evaluate their financial condition. Requiring PHAs to report electronically, in a prescribed HUD format, and using the GAAP basis of accounting has enabled HUD to provide a more comprehensive financial assessment of the PHAs receiving federal funds from HUD. The Real Estate Assessment Center responsibility for this collection of information was transferred to the Assistant Secretary for Public and Indian Housing.

Agency form numbers, if applicable: Not applicable.

Members of affected public: Public Housing Financial Management Template: Local, State, or Tribal Governments, Not-for-profit Institutions.

Estimation of the total number of hours needed to prepare the information collection including number of respondents, frequency of response, and hours of response: Public Housing Financial Management Template: 3,173 PHAs; annual submission per PHA; average hours for PHA response is 10 hours; the total reporting burden is 31, 961 hours.

Status of the proposed information collection: Revision of a currently approved collection.

Authority: Section 3506 of the paperwork Reduction Act of 1995, 44 U.S.C. Chapter 35, as amended.

Dated: April 30, 2002.
Michael Liu,
Assistant Secretary for Public and Indian Housing.

[FR Doc. 02-11322 Filed 5-7-02; 8:45 am]

BILLING CODE 4210-33-M